DEPARTMENT OF LABOR

Pension and Welfare Benefits Administration

Agency Information Collection Activities; Announcement of OMB Approval; Correction

AGENCY: Pension and Welfare Benefits Administration, Department of Labor.

ACTION: Correction.

SUMMARY: In document 00-25231 on page 58822 in the issue of Monday, October 2, 2000, make the following correction:

In the first column in the third paragraph, the approval expires on March 3, 2000. It should be changed to read on March 31, 2000.

Dated: October 3, 2000.
Gerald B. Lindrew,
Deputy Director, Office of Policy and Research, Pension and Welfare Benefits Administration, Department of Labor.

[FR Doc. 00-25775 Filed 10-5-00; 8:45 am]

BILLING CODE 4510-29-M